SECURITIES AND EXCHANGE COMMISSION

17 CFR Parts 275 and 279

[Release No. IA-6354A; File No. S7-13-23]

RIN 3235-AN31

Exemption for Certain Investment Advisers Operating Through the Internet; Correction

AGENCY: Securities and Exchange Commission.

ACTION: Proposed rule; correction.

SUMMARY: This document makes a correction to the preamble of a proposed rule, as proposed in Release No. IA-6354 (July 26, 2023), which was published in the Federal Register on August 1, 2023.

DATES: March 18, 2024.

ADDRESSES: Securities and Exchange Commission, 100 F Street NE, Washington, DC 20549-1090.

FOR FURTHER INFORMATION CONTACT: J. Matthew DeLesDernier, Deputy Secretary, Office of the Secretary, at (202) 551-5400, Securities and Exchange Commission, 100 F Street NE, Washington, DC 20549-1090.

SUPPLEMENTARY INFORMATION: We are making a correction to add a sentence to the preamble of the proposed rule specifying the internet address of a summary of not more than 100 words of the proposed rule that has been posted on the Commission's website.¹

¹ Providing Accountability Through Transparency Act of 2023, Public Law 118-9, sec. 2, 137 Stat. 55 (July 25, 2023).

In document FR Doc. 2023-16287, which was published in the Federal Register on August 1, 2023, at 88 FR 50076, the following correction is made in the Addresses section. On page 50076, in the third column, at the end of the second paragraph, the following sentence is added:

“A summary of the proposal of not more than 100 words is posted on the Commission's website (https://www.sec.gov/rules/2023/07/s7-13-23#IA-6354).”

By the Commission.
Dated: March 12, 2024.
Vanessa A. Countryman,
Secretary.

[FR Doc. 2024-05624 Filed 3-15-24; 8:45 am]

BILLING CODE 8011-01-P